DEPARTMENT OF COMMERCE

Submission for OMB Review; Comment Request

The Department of Commerce (DOC) has submitted to the Office of Management and Budget (OMB) for clearance the following proposal for collection of information under provisions of the Paperwork Reduction Act (44 U.S.C. chapter 35).

Agency: Bureau of Export Administration (BXA).

Title: Computers and Related Equipment.

Agency Form Number: N/A.

OMB Approval Number: 0694-0013.

Type of Request: Extension of a currently approved collection of information.

Burden: 43.

Average Hours Per Response: 32 minutes.

Number of Respondents: 80.

Needs and Uses: The advances in U.S. computer technology have created products that have a broad range of end-uses that include military applications and other uses that may be contrary to our national security, foreign policy, and proliferation concerns. In order to continue our profitable international trade position and at the same time protect our national security, it has become necessary to establish a system for precise and detailed evaluations of computer systems.

Affected Public: Businesses or other for-profit institutions.

Respondent's Obligation: Required to obtain or retain benefits.

OMB Desk Officer: David Rostker.

Copies of the above information collection proposal can be obtained by calling or writing Madeleine Clayton, DOC Paperwork Clearance Officer, (202) 482-3129, Department of Commerce, Room 6066, 14th and Constitution Avenue, NW, Washington, DC 20230.

Written comments and recommendations for the proposed information collection should be sent within 30 days of publication of this notice to David Rostker, OMB Desk Officer, Room 10202, New Executive Office Building, Washington, DC 20230.

Dated: January 10, 2001.
Madeleine Clayton,
Departmental Paperwork Clearance Officer, Office of the Chief Information Officer.

[FR Doc. 02-1044 Filed 1-15-02; 8:45 am]

BILLING CODE 3510-33-P